DEPARTMENT OF COMMERCE

National Oceanic and Atmospheric Administration

RIN 0648-XE41

Gulf of Mexico Fishery Management Council; Public Meetings

AGENCY: National Marine Fisheries Service (NMFS), National Oceanic and Atmospheric Administration (NOAA), Commerce.

ACTION: Notice of public meetings.

SUMMARY: The Gulf of Mexico Fishery Management Council to convene a workgroup of its Spiny Lobster AP (AP) via conference call.

DATES: The conference call will be held January 17, 2008, at 10 a.m. EST.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Wayne Swingle, Executive Director, Gulf of Mexico Fishery Management Council; telephone: (813) 348-1630.

SUPPLEMENTARY INFORMATION: The Spiny Lobster AP will review and comment on a scoping document to be presented at a public hearing in Islamorada, FL on January 24, 2008. This scoping hearing solicits comments from the public on regulatory activities that could be taken to apply a minimum size limit to spiny lobster imported from Central and South American nations. Such a minimum size limit would rectify the problems created by the occurrence in the U.S. market place of imported lobster that are much smaller than the current U.S. size limit. This creates a significant U.S. enforcement problem and adversely affects the lobster stocks affected.

Although other non-emergency issues not on the agenda may come before the AP workgroup for discussion, in accordance with the Magnuson-Stevens Fishery Conservation and Management Act (Magnuson-Stevens Act), those issues may not be the subject of formal action during the meeting. Actions will be restricted to the issue specifically identified in the agenda and any issues arising after publication of this notice that require emergency action under Section 305(c) of the Magnuson-Stevens Act, provided the public has been notified of the APs workgroup's intent to take action to address the emergency.

The conference call will begin at 10 a.m. EST and conclude no later than 11 a.m. EST. Listening stations are available at the following locations:

•The Gulf Council office (see ADDRESSES), and the National Marine Fisheries Service (NMFS) offices as follows:

•Miami, FL, 75 Virginia Beach Drive, Miami Beach, FL 33149; telephone: (305) 361-4259,

•Marathon, FL, 2796 Overseas Highway, Suite 119, Marathon, FL 33050; telephone: (305) 289-2330.

Special Accommodations

The meetings are physically accessible to people with disabilities. Requests for sign language interpretation or other auxiliary aids should be directed to Tina Trezza at the Council (see ADDRESSES) at least 5 working days prior to the meeting.

Dated: December 13, 2007.
Tracey L. Thompson,
Acting Director, Office of Sustainable Fisheries, National Marine Fisheries Service.

[FR Doc. E7-24450 Filed 12-17-07; 8:45 am]

BILLING CODE 3510-22-S